DEPARTMENT OF AGRICULTURE

Rural Utilities Service

[Docket No. RUS-22-TELECOM-0009]

Rural eConnectivity Program; Correction

AGENCY: Rural Utilities Service, Department of Agriculture.

ACTION: Notice; correction and amendment to Funding Opportunity Announcement (FOA).

SUMMARY: The Rural Utilities Service (RUS) published a Funding Opportunity Announcement (FOA) and solicitation of applications in the Federal Register on October 25, 2021, entitled Rural eConnectivity Program (ReConnect Program), announcing its general policy and application procedures for funding under the ReConnect Program established pursuant to the Consolidated Appropriations Act, 2018 (which became law on February 15, 2019) which provides loans, grants, and loan/grant combinations to facilitate broadband deployment in rural areas. The purpose of this notice is to inform the public of changes made to the ReConnect program and to correct the October notice. The two changes are extending the application window until 11:59 a.m.. Eastern on March 9, 2022 and potentially increasing total level of funding.

DATES: Actions described in this notice take effect February 22, 2022.

FOR FURTHER INFORMATION CONTACT: For general inquiries regarding the ReConnect Program, contact Laurel Leverier, Assistant Administrator Telecommunications Program, Rural Utilities Service, U.S. Department of Agriculture (USDA), email: laurel.leverrier@usda.gov, telephone (202) 720-9554. For inquiries regarding eligible service areas, please contact ReConnect Program Staff at https://www.usda.gov/reconnect/contact-us.

SUPPLEMENTARY INFORMATION:

Background

On October 25, 2021, RUS published a Funding Opportunity Announcement (FOA) and solicitation of applications in the Federal Register at 86 FR 58860. The FOA provided the policy and application procedures for the ReConnect Program. In support of the ReConnect Program, the agency identified the application closing date and funding amount for each category.

Since the publication of the FOA, the Agency's application system has been experiencing some issues that have hampered applicants from being able to complete applications. To allow the Agency sufficient time to address all the system issues and to give the applicants adequate time to complete their applications, the Agency has determined that an extension of the current period for submitting applications warranted. The actions taken in this notice will extend the application window until 11:59 a.m. Eastern on March 9, 2022. These actions are being taken by the Agency to ensure a successful third round of funding under the ReConnect Program.

There has also been a variety of new funding sources that meet the goals and purposes of this program. Therefore, to minimize the notices required, RUS may, at its discretion, increase the total level of funding available in this funding round or in any category in this funding round from any available source provided the awards meet the requirements of the statute which made the funding available to the agency.

Summary of Changes

The FOA published in the Federal Register on October 25, 2021, FOA must be corrected in regard to the application window being expanded from 11:59 a.m. Eastern on February 22, 2022 to 11:59 a.m. Eastern on March 9, 2022. The FOA must also be corrected to allow RUS at its discretion to increase the total level of funding available.

Corrections

In FR Doc. 2021-23128 appearing on page 58860 in the Federal Register of Monday, October 25, 2021, the following corrections are made:

1. On page 58860, second column, under DATES, correct “11:59 a.m. Eastern on February 22, 2022” to read “11:59 a.m. Eastern on March 9, 2022”.

2. On page 85560, third column, under Overview, in the Dates section:

i. Correct “11:59 a.m. Eastern on February 22, 2022” to read “11:59 a.m. Eastern on March 9, 2022”; and

ii. Correct the sentence “Applications will not be accepted after February 22, 2022 until a new application opportunity has been opened with the publication of an additional FOA in the Federal Register” to read “Applications will not be accepted after March 9, 2022 until a new application opportunity has been opened with the publication of an additional FOA in the Federal Register”.

3. On page 58861, first column, at the end of the first full paragraph, add the sentence “RUS may at its discretion, increase the total level of funding available in this funding round or in any category in this funding round from any available source provided the awards meet the requirements of the statute which made the funding available to the agency.”

Christopher A. McLean,
Acting Administrator, Rural Utilities Service.

[FR Doc. 2022-03716 Filed 2-17-22; 8:45 am]

BILLING CODE 3410-15-P